DEPARTMENT OF THE TREASURY

Departmental Offices; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Departmental Offices, Office of Procurement within the Department of the Treasury is soliciting comments concerning the OMB Control Number 1505-0080, Post-Contract Award Information.

DATES: Written comments should be received on or before January 7, 2002 to be assured of consideration.

ADDRESSES: Direct all written comments to Department of the Treasury, Departmental Offices, Angelie Jackson, Office of Procurement, 1500 Pennsylvania Avenue, NW., c/o 1310 G Street, NW., Suite 4W101, Washington, DC 20220 (202) 622-0245; angelie.jackson@do.treas.gov.

FOR FURTHER INFORMATION CONTACT: Requests for additional information or copies of the form(s) and instructions should be directed Department of the Treasury, Departmental Offices, Angelie Jackson, Office of Procurement, 1500 Pennsylvania Avenue, NW., c/o 1310 G Street, NW., Suite 4W101, Washington, DC 20220 (202) 622-0245; angelie.jackson@do.treas.gov.

SUPPLEMENTARY INFORMATION: Title: Post-Contract Award Information.

OMB Number: 1505-0080.

Abstract: This notice provides a request to continue including the designated OMB Control Number on information requested from contractors. The information requested is specific to each contract, and is required for Treasury to evaluate properly the progress made and/or management controls used by contractors providing supplies or services to the Government and to determine contractors' compliance with the contracts, in order to protect the Government's interest.

Current Actions: There are no changes being made to the notice at this time.

Type of Review: Extension of a currently approved collection.

Affected Public: Businesses and individuals contracting with the Department of the Treasury.

Estimated Number of Respondents: 5,023.

Estimated Time Per Respondent: 14 hours, 46 minutes.

Estimated Total Annual Burden Hours: 70,493.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: October 23, 2001.
Angelie Jackson,
Procurement Analyst.

[FR Doc. 01-27266 Filed 11-5-01; 8:45 am]

BILLING CODE 4810-31-M